ENVIRONMENTAL PROTECTION AGENCY

40 CFR Part 300

[FRL-7901-7]

National Oil and Hazardous Substance Pollution Contingency Plan; National Priorities List

AGENCY: Environmental Protection Agency.

ACTION: Final Rule: Notice of Deletion of the Firestone Tire and Rubber Company Superfund Site from the National Priorities List.

SUMMARY: The U.S. Environmental Protection Agency (EPA) Region IX announces the deletion of the Firestone Tire and Rubber Company Superfund Site in Salinas, Monterey County, California from the National Priorities List (NPL). The NPL is Appendix B of 40 CFR part 300 which is the National Oil and Hazardous Substances Pollution Contingency Plan (NCP), which EPA promulgated pursuant to section 105 of the Comprehensive Environmental Response, Compensation and Liability Act (CERCLA) of 1980, as amended. EPA and the State of California, through the California Department of Toxic Substances Control (DTSC), have determined that the remedial action for the site has been successfully executed.

DATES: Effective Date: April 21, 2005.

FOR FURTHER INFORMATION CONTACT: Patricia Bowlin, Remedial Project Manager, U.S. EPA Region IX (SFD-7-3), 75 Hawthorne Street, San Francisco, CA 94105-3901, (415) 972-3177 or 1-800-231-3075.

SUPPLEMENTARY INFORMATION: The site to be deleted from the NPL is the Firestone Tire and Rubber Company Superfund Site, Salinas, Monterey County, California. A Notice of Intent to Delete for this Site was published in the Federal Register on February 14, 2005 (70 FR 7455). The closing date for comments on the Notice of Intent to Delete was March 16, 2005. No comments were received; therefore, EPA has not prepared a Responsiveness Summary.

EPA identifies the sites that appear to present a significant risk to public health, welfare, or the environment, and it maintains the NPL as the list of those sites. Any site deleted from the NPL remains eligible for Fund-financed remedial actions in the unlikely event that conditions at the site warrant such action. Section 300.425(e)(3) of the NCP states that Fund-financed actions may be taken at sites deleted from the NPL. Deletion of a site from the NPL does not affect responsible party liability or impede agency efforts to recover costs associated with response efforts.

List of Subjects in 40 CFR Part 300

Environmental protection, Air pollution control, Chemicals, Hazardous waste, Hazardous substances, Intergovernmental relations, Penalties, Reporting and recordkeeping requirements, Superfund, Water pollution control, Water supply.

Dated: April 11, 2005.
Keith Takata,
Acting Regional Administrator, Region IX.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923, 3 CFR, 1987 Comp., p. 193.

Appendix B—[Amended]

2. Table 1 of Appendix B to Part 300 is amended under California (“CA”) by removing the site name “Firestone Tire & Rubber Co.” and the city “Salinas”

[FR Doc. 05-8024 Filed 4-20-05; 8:45 am]

BILLING CODE 6560-50-P